DEPARTMENT OF HOMELAND SECURITY

Transportation Security Administration

[Docket No. TSA-2003-14610]

Extension of Agency Information Collection Activity Under OMB Review: Security Threat Assessment for Individuals Applying for a Hazardous Materials Endorsement for a Commercial Driver's License

AGENCY: Transportation Security Administration, DHS.

ACTION: 30-Day notice.

SUMMARY: This notice announces that the Transportation Security Administration (TSA) has forwarded the Information Collection Request (ICR), Office of Management and Budget (OMB) control number 1652-0027, abstracted below to OMB for review and approval of an extension of the currently approved collection under the Paperwork Reduction Act (PRA). The ICR describes the nature of the information collection and its expected burden. The collection involves applicant's voluntary submission of biometric and biographic information for TSA's security threat assessment required before obtaining the hazardous materials endorsement (HME) on a commercial driver's license (CDL) issued by States and the District of Columbia.

DATES: Send your comments by July 19, 2018. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION: TSA published a Federal Register notice soliciting comments for a 60-day period on April 4, 2018, 83 FR 14485.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Security Threat Assessment for Individuals Applying for a Hazardous Materials Endorsement for a Commercial Driver's License.

Type of Request: Extension of a currently approved collection.

OMB Control Number: 1652-0027.

Forms(s): TSA Form 2214; HME Threat Assessment Program (HTAP).

Affected Public: Drivers seeking an HME on their CDL.

Abstract: This collection supports the implementation of sec. 1012 of the USA PATRIOT Act,¹ which mandates that no State or the District of Columbia may issue an HME on a CDL unless TSA has first determined the driver is not a threat to transportation security. TSA's implementing regulations (codified at 49 CFR part 1572) describe the procedures, standards, and eligibility criteria for security threat assessments (STAs) on individuals seeking to obtain, renew, or transfer an HME on a CDL. The collection includes an HME application, applicant biometrics (e.g., fingerprints), recordkeeping requirement for States to maintain a copy of the driver application for a period of one year, an application for appeal or waiver of HME ineligibility, and an optional customer satisfaction survey.

¹ Public Law 107-56, 115 Stat. 272, 396, Oct. 26, 2001 (49 U.S.C. 5103a).

Number of Respondents: 268,295.

Estimated Annual Burden Hours: An estimated 524,746 hours annually.

Dated: June 13, 2018.
Christina A. Walsh,
TSA Paperwork Reduction Act Officer, Office of Information Technology.

[FR Doc. 2018-13137 Filed 6-18-18; 8:45 am]

BILLING CODE 9110-05-P